DEPARTMENT OF ENERGY

Federal Energy Regulatory Commission

Combined Notice of Filings

Take notice that the Commission has received the following Natural Gas Pipeline Rate and Refund Report filings:

Filings Instituting Proceedings

Docket Numbers: RP14-1280-000.

Applicants: Southern Natural Gas Company, L.L.C.

Description: Compliance filing per 154.203: Abandonment of Service—Compliance Filing to be effective 11/1/2014.

Filed Date: 9/26/14.

Accession Number: 20140926-5067.

Comments Due: 5 p.m. ET 10/8/14.

Docket Numbers: RP14-1281-000.

Applicants: Alliance Pipeline L.P.

Description: § 4(d) rate filing per 154.204: October 1-31 214 Auction to be effective 10/1/2014.

Filed Date: 9/26/14.

Accession Number: 20140926-5092.

Comments Due: 5 p.m. ET 10/8/14.

Docket Numbers: RP14-1282-000.

Applicants: Maritimes & Northeast Pipeline, L.L.C.

Description: Compliance filing per 154.203: MNUS FRQ 2014.

Filed Date: 9/26/14.

Accession Number: 20140926-5124.

Comments Due: 5 p.m. ET 10/8/14.

Docket Numbers: RP14-1283-000.

Applicants: Northwest Pipeline LLC.

Description: § 4(d) rate filing per 154.204: Receiving Party and Entitlement Revisions Filing to be effective 10/27/2014.

Filed Date: 9/26/14.

Accession Number: 20140926-5214.

Comments Due: 5 p.m. ET 10/8/14.

Docket Numbers: RP14-1284-000.

Applicants: Tennessee Gas Pipeline Company, L.L.C.

Description: § 4(d) rate filing per 154.204: Volume No. 2-UGI Penn Natural Gas, Inc. to be effective 11/1/2014.

Filed Date: 9/26/14.

Accession Number: 20140926-5223.

Comments Due: 5 p.m. ET 10/8/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 29, 2014.
Nathaniel J. Davis, Sr.,
Deputy Secretary.

[FR Doc. 2014-23930 Filed 10-7-14; 8:45 am]

BILLING CODE 6717-01-P